DEPARTMENT OF ENERGY

Federal Energy Regulatory Commission

Combined Notice of Filings #1

Take notice that the Commission received the following electric corporate filings:

Docket Numbers: EC14-2-000.

Applicants: PPL Montana, LLC.

Description: Application for Approval Pursuant to Section 203 and Request for Expedited Consideration of PPL Montana, LLC.

Filed Date: 10/4/13.

Accession Number: 20131004-5150.

Comments Due: 5 p.m. ET 10/25/13.

Take notice that the Commission received the following exempt wholesale generator filings:

Docket Numbers: EG14-2-000.

Applicants: West Deptford Energy, LLC.

Description: Self-Certification of Exempt Wholesale Generator Status of West Deptford Energy, LLC.

Filed Date: 10/03/2013.

Accession Number: 20131003-5132.

Comment Date: 5 p.m. ET 10/24/13.

Take notice that the Commission received the following electric rate filings:

Docket Numbers: ER13-2016-000.

Applicants: New York Independent System Operator, Inc.

Description: Motion for a twenty-two day extension of the temporary, limited waiver of New York Independent System Operator, Inc.

Filed Date: 10/4/13.

Accession Number: 20131004-5126.

Comments Due: 5 p.m. ET 10/15/13.

Docket Numbers: ER14-31-000.

Applicants: CalPeak Power-Border LLC.

Description: Change in Status & Tariff Revisions to be effective 11/27/2013.

Filed Date: 10/4/13.

Accession Number: 20131004-5075.

Comments Due: 5 p.m. ET 10/25/13.

Docket Numbers: ER14-32-000.

Applicants: CalPeak Power—Enterprise LLC.

Description: Change in Status & Tariff Revisions to be effective 11/27/2013.

Filed Date: 10/4/13.

Accession Number: 20131004-5076.

Comments Due: 5 p.m. ET 10/25/13.

Docket Numbers: ER14-33-000.

Applicants: CalPeak Power-Panoche LLC.

Description: Change in Status & Tariff Revisions to be effective 11/27/2013.

Filed Date: 10/4/13.

Accession Number: 20131004-5077.

Comments Due: 5 p.m. ET 10/25/13.

Docket Numbers: ER14-34-000.

Applicants: CalPeak Power-Vaca Dixon LLC.

Description: Change in Status & Tariff Revisions to be effective 11/27/2013.

Filed Date: 10/4/13.

Accession Number: 20131004-5078.

Comments Due: 5 p.m. ET 10/25/13.

Docket Numbers: ER14-35-000.

Applicants: Central Maine Power Company.

Description: Central Maine Power Company & Western Maine Renewables, LLC E&P Agreement to be effective 5/21/2013.

Filed Date: 10/4/13.

Accession Number: 20131004-5080.

Comments Due: 5 p.m. ET 10/25/13.

Docket Numbers: ER14-36-000.

Applicants: CalPeak Power LLC.

Description: Change in Status & Tariff Revisions to be effective 11/27/2013.

Filed Date: 10/4/13.

Accession Number: 20131004-5084.

Comments Due: 5 p.m. ET 10/25/13.

Docket Numbers: ER14-37-000.

Applicants: Starwood Power-Midway LLC.

Description: Change in Status & Tariff Revision to be effective 11/27/2013.

Filed Date: 10/4/13.

Accession Number: 20131004-5087.

Comments Due: 5 p.m. ET 10/25/13.

Docket Numbers: ER14-38-000.

Applicants: PJM Interconnection, L.L.C.

Description: Notice of Cancellation of First Revised SA No. 3403, Queue U3-004 to be effective 9/20/2013.

Filed Date: 10/4/13.

Accession Number: 20131004-5094.

Comments Due: 5 p.m. ET 10/25/13.

Docket Numbers: ER14-39-000.

Applicants: New York Independent System Operator, Inc.

Description: NYISO section 205 filing tariff revision on SCR ACL provision to be effective 3/15/2014.

Filed Date: 10/4/13.

Accession Number: 20131004-5111.

Comments Due: 5 p.m. ET 10/25/13.

Docket Numbers: ER14-40-000.

Applicants: Entergy Mississippi, Inc.

Description: Entergy Mississippi, Inc. submits EMI-MEAM Amended PR Contract to be effective 12/19/2013.

Filed Date: 10/4/13.

Accession Number: 20131004-5112.

Comments Due: 5 p.m. ET 10/25/13.

Docket Numbers: ER14-41-000.

Applicants: RE Rosamond One LLC.

Description: RE Rosamond One LLC submits Application for Market-Based Rate Authority to be effective 10/5/2013.

Filed Date: 10/4/13.

Accession Number: 20131004-5113.

Comments Due: 5 p.m. ET 10/25/13.

Docket Numbers: ER14-42-000.

Applicants: RE Rosamond Two LLC.

Description: RE Rosamond Two LLC submits Application for Market-Based Rate Authority to be effective 10/5/2013.

Filed Date: 10/4/13.

Accession Number: 20131004-5114.

Comments Due: 5 p.m. ET 10/25/13.

Docket Numbers: ER14-43-000.

Applicants: Entergy Mississippi, Inc.

Description: EMI-SMEPA Amended IA to be effective 12/19/2013.

Filed Date: 10/4/13.

Accession Number: 20131004-5115.

Comments Due: 5 p.m. ET 10/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2013.
Nathaniel J. Davis, Sr.,
Deputy Secretary.

[FR Doc. 2013-24456 Filed 10-11-13; 8:45 am]

BILLING CODE 6717-01-P